DEPARTMENT OF JUSTICE

Antitrust Division

Notice Pursuant to the National Cooperative Research and Production Act of 1993—National Spectrum Consortium

Notice is hereby given that, on January 28, 2019, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Enveil, Inc., Fulton, MD; World Wide Technology, Inc. (WWT), St. Louis, MO; MegaWave Corporation, Worcester, MA; Athena Technologies, LLC, Orlando, FL; GBL Systems Corporation, Camarillo, CA; GPS Source, Inc., Pueblo, CO; JC3 LLC, Rockbridge Baths, VA; Kumu Networks, Sunnyvale, CA; IMSAR LLC, Springville, UT; and Parry Labs, LLC, Columbia, MD, have been added as parties to this venture.

Also, Avcom of Virginia, Inc., N Chesterfield, VA; Florida International University, Miami, FL; Northeastern University, Boston, MA; Northwestern University, Evanston, IL; University at Buffalo, Buffalo, NY; Vanu Inc., Lexington, MA; Foundry Inc., Millersville, MD; OpenJAUS, LLC, Lake Mary, FL; University of California, Irvine, Irvine, CA; US Ignite, Inc., Washington, DC; Warrior Support Solutions, LLC, Hollis, NH; and COMINT Consulting LLC, Golden, CO, have withdrawn as parties to this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on October 29, 2018. A notice was published in the Federal Register pursuant to Section 6(b) of the Act on November 7, 2018 (83 FR 55739).

Suzanne Morris,
Chief, Premerger and Division Statistics Unit, Antitrust Division.

[FR Doc. 2019-03521 Filed 2-27-19; 8:45 am]

BILLING CODE 4410-11-P